SURFACE TRANSPORTATION BOARD

[Docket No. FD 36293]

Midwestern Railway Services, Corporation—Operation Exemption—Perry County Port Authority

Midwestern Railway Services, Corporation (MRS), a noncarrier, has filed a verified notice of exemption under 49 CFR 1150.31 to operate approximately 20.6 miles of rail line (the Line) between milepost 1.8 at Tell City, Ind., and milepost 22.4 at Lincoln City, Ind., pursuant to an agreement with Perry County Port Authority (PCPA).¹

¹ The Line is owned by PCPA. See Perry Cty. Port Auth.—Operation Exemption—Norfolk S. Ry., FD 32614 (STB served Dec. 29, 1994) (milepost 0.0 to milepost 19.8); Perry Cty. Port Auth.—Acquis. & Lease Exemption—Norfolk S. Ry., FD 33045 (STB served Sept. 12, 1996) (milepost 19.8 to milepost 22.4).

The transaction is related to a concurrently filed verified notice of exemption in TNW Corp.—Continuance in Control Exemption—Midwestern Railway Services, Corp., Docket No. FD 36294, in which TNW Corporation seeks to continue in control of MRS upon MRS's becoming a Class III rail carrier.

MRS certifies that, as a result of this transaction, its projected revenues will not exceed those that would qualify it as a Class III rail carrier and will not exceed $5 million. MRS states that the proposed transaction does not involve, and the agreement between MRS and PCPA does not include, any provision or agreement that would limit future interchange with a third-party connecting carrier.

The earliest this transaction may be consummated is June 2, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than May 24, 2019 (at least seven days before the exemption becomes effective).

All pleadings, referring to Docket No. FD 36293, must be filed with the Surface Transportation Board either via e-filing or in writing addressed to 395 E Street SW, Washington, DC 20423-0001. In addition, a copy of each pleading must be served on MRS's representative, Bradon J. Smith, Fletcher & Sippel LLC, 29 North Wacker Drive, Suite 800, Chicago, IL 60606.

According to MRS, this action is excluded from environmental review under 49 CFR 1105.6(c) and from historic reporting under 49 CFR 1105.8(b).

Board decisions and notices are available at www.stb.gov.

Decided: May 13, 2019.
By the Board, Allison C. Davis, Acting Director, Office of Proceedings.
Kenyatta Clay,
Clearance Clerk.

[FR Doc. 2019-10243 Filed 5-16-19; 8:45 am]

BILLING CODE 4915-01-P